DEPARTMENT OF HEALTH AND HUMAN SERVICES

Health Resources and Services Administration

Agency Information Collection Activities: Proposed Collection: Public Comment Request; Information Collection Request Title: Standardized Work Plan Form for Use With Applications to the Bureau of Health Workforce Research and Training Grants and Cooperative Agreements, OMB No. 0906-xxxx-New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than August 19, 2019.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Standardized Work Plan (SWP) Form for Use with Applications to the Bureau of Health Workforce (BHW) Research and Training Grants and Cooperative Agreements, OMB No. 0906-xxxx-New.

Abstract: BHW requires applicants for training and research grants and cooperative agreements to submit a work plan that describes the timeframes and deliverables required during the grant period of performance to address each of the needs detailed in the Purpose and Need section of the application, as required in the Notice of Funding Opportunity (NOFO) announcement. Applicants are currently able to submit work plans in a non-standardized format.

In order to standardize the data provided by applicants to make informed decisions about funding and assist with monitoring awardee progress, BHW plans to require applicants to complete a SWP form in lieu of submitting a work plan in the applicant's own format. Applicants will use the SWP form when they submit their proposals, and grantees and Project Officers will use the SWP information to assist in monitoring progress once HRSA makes the awards.

Need and Proposed Use of the Information: The information collected by the SWP form is necessary to standardize and streamline the data used by HRSA in reviewing applications and monitoring awardees. The form will ask applicants to provide a description of the activities or steps the recipient will take to achieve each of the objectives proposed during to the entire period of performance. The current variation in formats and data submitted by applicants reduces efficiency in reviewing, awarding, and monitoring each project, so this change will remedy that inefficiency. In addition, seeking OMB approval comports with the regulatory requirement imposed by 45 CFR 75.206(a), Paperwork clearances.

The proposed SWP form will be used to provide information to assess applications for awards including ranking applications as part of the grant review process. BHW will also use the information to assess whether current recipients of grant funding have met statutory and programmatic requirements.

Likely Respondents: Respondents will be applicants to HRSA's research and training programs in BHW.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
SWP | 1,000 | 1 | 1,000 | 1 | 1,000
Total | 1,000 |  | 1,000 |  | 1,000

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Division of the Executive Secretariat.

[FR Doc. 2019-12959 Filed 6-18-19; 8:45 am]

BILLING CODE 4165-15-P